FEDERAL COMMUNICATIONS COMMISSION

47 CFR Part 73

[MB Docket No. 25-131; RM-11999; DA 25-691; FR ID 307206]

Television Broadcasting Services Henderson, Nevada

AGENCY: Federal Communications Commission.

ACTION: Final rule.

SUMMARY: This document amends the Table of TV Allotments (table) of the Federal Communications Commission's (Commission) rules by substituting channel 9 for channel 24 at Henderson, Nevada in response to a Petition for Rulemaking filed by Gray Television Licensee, LLC (Gray), the licensee of KVVU-TV, Henderson, Nevada. The staff engineering analysis finds that the proposal is in compliance with the Commission's principal community coverage and technical requirements. The substitution of channel 9 for channel 24 in the table will allow the station to continue to operate on its licensed channel and provide uninterrupted service to its viewers.

DATES: Effective August 14, 2025.

FOR FURTHER INFORMATION CONTACT: Shaun Maher, Media Bureau, at Shaun.Maher@fcc.gov, (202) 418-2324, or Mark Colombo, Media Bureau, at Mark.Colombo@fcc.gov, (202) 418-7611.

SUPPLEMENTARY INFORMATION: This is a synopsis of the Commission's Report and Order, MB Docket No. 25-131; RM-11999; DA 25-691, adopted August 4, 2025, and released August 4, 2025. The proposed rule was published at 90 FR 12508 on March 18, 2025. The full text of this document is available online at https://www.fcc.gov/edocs.

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622, in the table in paragraph (j), under Nevada, revise the entry for “Henderson” to read as follows:

§ 73.622 Digital television table of allotments.

* * * * *

(j) * * *

Community | Channel No.
* * * * *
Nevada
* * * * *
Henderson | 9
* * * * *

* * * * *

[FR Doc. 2025-15438 Filed 8-13-25; 8:45 am]

BILLING CODE 6712-01-P